DEPARTMENT OF ENERGY

Federal Energy Regulatory Commission

[Project No. 3156-029]

Miller and Miller; Notice of Termination of License by Implied Surrender and Soliciting Comments, Protests, and Motions To Intervene

February 17, 2010.

Take notice that the following hydroelectric proceeding has been initiated by the Commission:

a. Type of Proceeding: Termination of license by implied surrender.

b. Project No.: 3156-029.

c. Date Initiated: February 3, 2010.

d. Licensee: The licensee is Miller and Miller.

e. Name and Location of Project: The constructed 280-kilowatt Worthville Dam Project is located on the Deep River in Randolph County, North Carolina.

f. Filed Pursuant to: 18 CFR 6.4.

g. Licensee Contact Information: Mr. Ernest Miller, Miller and Miller, 122 East Lindsay St., P.O. Box 20561, Greensboro, NC 27401, Mr. Ernest W. Miller, 6001 Pelican Bay Blvd, Naples, FL 34108-8166, Mr. H. Bruce Cox, Cox Hydroelectric, 5666 Hinshaw Town Road, Ramseur, NC 27316, and Mr. Mark K. Seifert, 107 Saint Brides Court, Cary, North Carolina 27518.

h. FERC Contact: Robert Bell, (202) 502-6062.

i. Deadline for Filing Comments, Protests, and Motions To Intervene: March 19, 2010.

All documents (original and eight copies) should be filed with the, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings. Please include the project number (P-3156-029) on any documents or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

j. Description of Existing Facilities: The constructed project consists of the following existing facilities: (1) An existing dam 230 feet long and 20 feet high, (2) an existing reservoir with a surface area of 305 acres and a storage capacity of 105 acre-feet, (3) a proposed 280 kW generator and turbine installation, and appurtenant facilities. The Worthville Dam Project would be operated as a run-of-the-river facility with an average annual generation of 0.84 GWh. Power generated at the project would be sold to Carolina Power and Light Company via a transmission line less than 200 yards long.

k. Description of Proceeding: 18 CFR 6.4 of the Commission's regulations provides, among other things, that it is deemed to be the intent of a licensee to surrender a license, if the licensee abandons a project for a period of three years.

A license for the Worthville Project was issued by Order Issuing License on October 28, 1982 (21 FERC ¶ 62,112) and was transfered to Miller and Miller on June 25, 1986. The project has been non-operational since May 1995. The Commission has requested that the license file the detailed plan and schedule to put the project back into operation numerous times. These requests have been made by letters dated September 29, 1999, September 28, 2001, August 29, 2003, November 20, 2003, January 26, 2006, September 18, 2008, and most recently December 16, 2009. No plan and schedule have been filed.

On January 15, 2010, the licensee requested a 90 day extension of time to provide the requested information. This request was denied on February 4, 2010, stating that the Commission proposes to terminate the license by implied surrender

To date, the licensee has not made the necessary repairs to resume operations at the project and the project is hereby considered abandoned.

l. Location of the Order: A copy of the order is available for inspection and reproduction at the Commission in the Public Reference Room or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the proceeding.

Comments, protests and interventions may be filed electronically via the Internet in lieu of paper; See 18 CFR 385.2001(a)(1)(iii) and the instructions on the Commission's Web site under “e-filing” link. The Commission strongly encourages electronic filing.

o. Filing and Service of Responsive Documents—Any filings must bear in all capital letters the title “COMMENTS”, “PROTEST”, or “MOTION TO INTERVENE”, and “RECOMMENDATIONS FOR TERMS AND CONDITIONS”, as applicable, and the Project Number of the proceeding. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address.

p. Agency Comments—Federal, state, and local agencies are invited to file comments on the described proceeding. If an agency does not file comments within the time specified for filing comments, it will be presumed to have no comments.

Kimberly D. Bose,
Secretary.

[FR Doc. 2010-3625 Filed 2-23-10; 8:45 am]

BILLING CODE 6717-01-P